DEPARTMENT OF THE INTERIOR

Bureau of Land Management

Bureau of Indian Affairs

[LLESM00000.L14400000.FR0000; MNES-058082]

Identifying Lands Subject to Secretarial Order of Restoration of February 22, 1945

AGENCY: Bureau of Land Management, Bureau of Indian Affairs, Interior.

ACTION: Notice.

SUMMARY: On February 22, 1945, the Secretary of the Interior issued an Order restoring to the Red Lake Band of Chippewa Indians of Minnesota (“Tribe”) certain lands that the Tribe had previously ceded to the United States for use by non-Indians. The lands restored to the Tribe by the 1945 Order are lands that were continuously held in trust by the United States since the cessions, that were never sold or otherwise disposed of, and for which the Tribe was never paid. This notice provides a partial list of the legal descriptions of lands restored to the Tribe by the 1945 Order. The Secretary included in the 1945 Order “lands which have been assessed for drainage works by the State of Minnesota under the authority of the Volstead Act of May 20, 1908 . . . subject to any existing valid rights.” The Department has reviewed and resolved title issues that arose regarding applicability of the Volstead Act. Thus, without further delay, these legal descriptions are published as representing lands among the lands restored to the Tribe as trust lands.

DATES: Restoration of lands was effective on February 22, 1945.

ADDRESSES: Bureau of Land Management, Eastern States, 20 M Street SE., Suite 950, Washington, DC 20003. Bureau of Indian Affairs, Midwest Regional Office, 5600 American Blvd., West, Suite 500, Bloomington, MN 55437. Detailed information concerning this action is available for review at these addresses.

FOR FURTHER INFORMATION CONTACT: Dominica VanKoten, Deputy State Director, Division of Geospatial Services, by telephone at (202) 912-7756, or by email at dvankote@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Nelson Act of January 14, 1889, ch. 24, 25 Stat. 642, created and authorized a Federal commission to negotiate a cession of lands in northern Minnesota from the Red Lake Band of Chippewa Indians of Minnesota to the United States. By agreement dated July 8, 1889, 2.9 million acres of land known as “Royce 706” were ceded by the Tribe to the United States for the benefit of the Tribe. The Tribe retained a much smaller area known as “Royce 707.”

On March 10, 1902, another agreement was negotiated between the Tribe and the United States for the cession of an additional 256,152 acres of land in the western portion of Royce 707. This agreement was approved, with amendments, by Congress under the Act of February 20, 1904, ch. 161, 33 Stat. 46. Consistent with the provisions of the Nelson Act, the lands the Tribe ceded to the United States were opened for timber sales and homesteading, and most of the lands were disposed of by the 1930s.

The Indian Reorganization Act of 1934 (“IRA”), 25 U.S.C. 461 et seq., authorized the Secretary of the Interior, if he found it to be in the public interest, “to restore to tribal ownership the remaining surplus lands to any Indian reservation [that prior to June 18, 1934 were] opened, or authorized to be opened, to sale or any other form of disposal by Presidential proclamation, or by any of the public land laws of the United States[.]” 25 U.S.C. 463(a).

On February 22, 1945, exercising this authority granted by the IRA, the Secretary of the Interior issued an Order of Restoration (“1945 Order”), 10 FR 2448 (1945). The 1945 Order “Restored to tribal ownership all those lands of the Red Lake Indian Reservation which were ceded by the Indians under [the Nelson Act and the Act of February 20, 1904] and which were opened for sale or entry but for which the Indians have not been paid and which now are or hereafter may be classified as undisposed of.” 10 FR at 2449. See also Act of December 4, 1942, ch. 673, 56 Stat. 1039 (“All right, title, and interest of the Minnesota Chippewa Tribe in and to the so-called Red Lake Indian ceded lands, including any administrative reserves, is hereby declared extinguished and title thereto vested in the Red Lake Band of Chippewa Indians.”).

On May 28, 1945, the Acting Commissioner of the General Land Office forwarded to the Commissioner of the Office of Indian Affairs a list of lands that satisfied the criteria of the 1945 Order and could be returned to the Tribe. On April 29, 1946, and January 9, 1947, amendments to the list of lands were made. The list of May 28, 1945, and the amendments of April 29, 1946, and January 9, 1947 (collectively, the “1945 List”) totaled approximately 157,499 acres of noncontiguous lands. The 1945 List was to have been published in the Federal Register to provide public notice of lands that were subject to the 1945 Order. However, shortly after the 1945 List was completed, several title and legal description problems with lands on the list were discovered, and the 1945 List was never published in the Federal Register.

From 1945 until 1988, the Department attempted to resolve many of the title and legal description problems with the lands on the 1945 List. On December 22, 1988, the Acting State Director of the Eastern States Office, Bureau of Land Management (“BLM”), forwarded to the Bureau of Indian Affairs a comprehensive list of lands totaling approximately 186,533 acres (“1988 List”) that the BLM had determined qualified for restoration to the Tribe under the 1945 Order. Many of the lands on the 1945 List were on the 1988 List. However, shortly after the 1988 List was completed, several additional title and legal description problems were discovered and the 1988 List was never published in the Federal Register.

In December 1997, the Department initiated a review of the lands on the 1945 and 1988 Lists. On February 2, 1999, the Department published in the Federal Register a list of lands totaling 86,685.89 acres which were determined to be eligible for restoration to the Tribe pursuant to the 1945 Order. 64 FR 5069 (1999). On November 15, 2001, the Department published in the Federal Register a list of lands totaling 34,578.58 acres which were also determined to be eligible for restoration to the Tribe pursuant to the 1945 Order. 66 FR 57479 (2001).

The Department has conducted an extensive review of one of the outstanding title and legal description problems. Specifically, the 1945 Order restored lands, including “lands which have been assessed for drainage works by the State of Minnesota under authority of the Volstead Act of May 20, 1908 (35 Stat. 169, 43 U.S.C. secs. 1021-1028) . . . subject to existing valid rights.” 10 FR 2449. In a 2015 M-Opinion (M-37031) entitled Legal Status of the Red Lake Band of Chippewa Indians' Restored Lands Assessed for Drainage Works by the State of Minnesota Under the Authority of the Volstead Act of 1908 (May 1, 2015), the Department determined that the Volstead drainage liens do not constitute a valid existing right as to restored lands for the Tribe.

The Department has determined through a review of BLM records, in accordance with M-37031, that the lands described below were ceded by the Tribe to the United States in 1889 and 1902, were held in trust by the United States subject to sale for the benefit of the Tribe, were not disposed of by the United States, and were restored to the Tribe by the 1945 Order. The descriptions include lands previously published as restored by the 1945 Order if such lands were also assessed with Volstead drainage liens. Descriptions of any additional lands that were restored by the 1945 Order may be published as they are confirmed.

Lands restored to the Tribe by the 1945 Order include the following described tracts and their respective acreages:

Fifth Principal Meridian, Minnesota
T. 159 N., R 27 W.,
Sec. 15, NE¼SW¼ | 40
T. 157 N., R 28 W.,
Sec. 6, Lots 5 and 6, SE¼NW¼ | 126.92
Sec. 7, W½SE¼ | 80
Sec. 27, E½NE¼, SW¼NE¼, NW¼, SW¼, SE¼ | 600
Sec. 29, SW¼ | 160
Sec. 32, Lots 1 thru 4, NE¼, N½SW¼, N½SE¼ | 468.84
Sec. 34, E½, SW¼ | 480
Sec. 35, All | 640
T. 158 N., R 28 W.,
Sec. 1, SW¼, SE¼SE¼ | 200
Sec. 2, S½ | 320
Sec. 3, S½SE¼ | 80
Sec. 5, SE¼ | 160
Sec. 6, S½NE¼, N½SE¼, SW¼SE¼ | 200
Sec. 7, Lots 1 and 2, E½NW¼ | 158.60
Sec. 12, SE¼SW¼ | 40
Sec. 13, SE¼ | 160
Sec. 15, SW¼SW¼ | 40
Sec. 16, SW¼NE¼ | 40
Sec. 17, W½NE¼, W½SE¼ | 160
Sec. 18, E½ | 320
Sec. 21, NE¼NE¼, S½SW¼, E½SE¼, SW¼SE¼ | 240
Sec. 22, W½NW¼, S½ | 400
Sec. 23, E½, E½NW¼, SW¼NW¼, SW¼ | 600
Sec. 24, E½NE¼, SW¼NE¼, W½NW¼, SE¼NW¼, SW¼, N½SE¼, SW¼SE¼ | 520
Sec. 25, N½NE¼, N½NW¼, NW¼SE¼ | 200
Sec. 26, N½NE¼, N½NW¼ | 160
Sec. 27, NE¼, N½NW¼ | 240
Sec. 28, N½NE¼, SE¼NE¼, NW¼ | 280
Sec. 29, E½NE¼ | 80
Sec. 32, SE¼NW¼, E½SW¼, SW¼SW¼ | 160
T. 159 N., R 28 W.,
Sec. 5, SW¼NE¼ | 40
Sec. 6, Lot 4, SE¼SE¼ | 76.50
Sec. 7, N½NE¼ | 80
Sec. 8, SE¼NE¼, SE¼SW¼, SW¼SE¼ | 120
Sec. 9, N½NW¼ | 80
Sec. 12, E½SW¼, SW¼SW¼ | 120
Sec. 13, W½NW¼ | 80
Sec. 14, N½NE¼, SW¼NE¼ | 120
Sec. 17, NW¼NE¼, NE¼NW¼ | 80
Sec. 25, NW¼ | 160
Sec. 27, NW¼SW¼ | 40
Sec. 29, W½SW¼, E½SE¼ | 160
Sec. 30, Lot 1 | 38.67
Sec. 32, SW¼NE¼, NW¼SE¼ | 80
T. 160 N., R 28 W.,
Sec. 31, Lots 3 and 4, NE¼SW¼ | 112.27
T. 154 N., R 29 W.,
Sec. 16, NE¼SE¼ | 40
T. 155 N., R 29 W.,
Sec. 16, SW¼NW¼ | 40
Sec. 36, Lot 2 | 19.40
T. 156 N., R 29 W.,
Sec. 36, SE¼SW¼ | 40
T. 157 N., R 29 W.,
Sec. 3, SW¼SE¼ | 40
Sec. 4, Lots 1 and 4, SW¼NW¼ | 120.04
Sec. 5, Lot 1, SE¼NE¼ | 79.93
Sec. 6, Lots 3 thru 6, S½NE¼, SE¼NW¼, NE¼SW¼, NW¼SE¼ | 372.06
Sec. 11, E½NE¼, SW¼NE¼ | 120
Sec. 12, W½NW¼ | 80
Sec. 21, NE¼, W½NW¼ | 240
Sec. 22, NW¼ | 160
Sec. 26, SE¼ | 160
Sec. 36, E½SW¼, SE¼ | 240
T. 158 N., R 29 W.,
Sec. 3, E½SE¼ | 80
Sec. 4, NW¼SW¼ | 40
Sec. 6, Lot 7, E½SW¼, SE¼ | 282.22
Sec. 8, W½NW¼, SE¼NW¼, SW¼ | 280
Sec. 19, NE¼NE¼ | 40
Sec. 25, E½NW¼ | 80
Sec. 29, W½NE¼, SE¼NE¼, NW¼SE¼ | 160
Sec. 32, SW¼NW¼ | 40
Sec. 33, SE¼SE¼ | 40
T. 159 N., R 29 W.,
Sec. 3, S½SE¼ | 80
Sec. 6, SE¼NE¼, E½SE¼ | 120
Sec. 10, SW¼NE¼, SE¼NW¼, N½SE¼ | 160
Sec. 11, NE¼NE¼, W½NW¼ | 120
Sec. 12, S½NW¼, NW¼SE¼ | 120
Sec. 15, S½NE¼ | 80
Sec. 28, NW¼SE¼ | 40
Sec. 32, Lot 3, SE¼NE¼ | 80.70
Sec. 33, S½SW¼ | 80
Sec. 34, N½NW¼, SW¼NW¼, NW¼SW¼ | 160
Sec. 35, NE¼NW¼ | 40
T. 160 N., R 29 W.,
Sec. 13, E½NE¼, E½SE¼ | 160
Sec. 15, SW¼NW¼ | 40
Sec. 16, NE¼NE¼ | 40
Sec. 28, NE¼SE¼ | 40
T. 153 N., R 30 W.,
Sec. 14, SE¼SW¼ | 40
T. 156 N., R 30 W.,
Sec. 36, SW¼ | 160
T. 157 N., R 30 W.,
Sec. 3, Lots 1 and 2, S½NE¼, S½ | 478.86
Sec. 4, S½NW¼ | 80
Sec. 5, NE¼SW¼, N½SE¼, SE¼SE¼ | 160
Sec. 6, Lot 1 | 40.38
Sec. 7, NE¼ | 160
Sec. 13, NE¼, SW¼ | 320
Sec. 14, NE¼ | 160
Sec. 19, SE¼ | 160
Sec. 20, SW¼ | 160
Sec. 25, NE¼ | 160
Sec. 30, Lots 1 and 2, E½NW¼ | 159.55
T. 158 N., R 30 W.,
Sec. 7, Lot 3, NE¼SW¼, N½SE¼ | 157.53
Sec. 10, SW¼SE¼ | 40
Sec. 14, N½SE¼, SE¼SE¼ | 120
Sec. 15, NW¼SW¼ | 40
Sec. 24, N½NW¼ | 80
Sec. 29, W½NW¼ | 80
Sec. 30, Lots 3 and 4, E½SW¼ | 158.16
Sec. 31, NW¼NE¼ | 40
Sec. 32, SE¼SE¼ | 40
Sec. 33, NE¼SW¼, S½SE¼ | 120
Sec. 34, SE¼NW¼, NE¼SW¼ | 80
T. 159 N., R 30 W.,
Sec. 6, Lots 3 and 4 | 79.49
Sec. 24, SE¼SW¼ | 40
Sec. 35, SW¼NW¼ | 40
T. 160 N., R 30 W.,
Sec. 31, E½SW¼ | 80
T. 153 N., R 31 W.,
Sec. 36, W½NE¼ | 80
T. 157 N., R 31 W.,
Sec. 2, Lot 4, SE¼NE¼, NE¼SW¼ | 119.79
Sec. 3, Lot 1 | 39.78
Sec. 8, NW¼SW¼ | 40
Sec. 9, SW¼NW¼, W½SW¼ | 120
Sec. 11, NE¼ | 160
Sec. 12, SW¼ | 160
Sec. 15, SE¼NW¼ | 40
Sec. 20, NW¼NW¼ | 40
Sec. 22, NW¼ | 160
Sec. 31, Lots 1 and 2, E½NW¼ | 160.75
Sec. 32, SW¼NE¼ | 40
T. 158 N., R 31 W.,
Sec. 19, Lot 3 | 43.08
Sec. 23, SW¼NE¼, SE¼NW¼, N½SW¼ | 160
Sec. 24, NW¼SE¼ | 40
Sec. 30, W½SE¼ | 80
Sec. 33, SW¼SE¼ | 40
Sec. 34, NE¼NW¼ | 40
T. 159 N., R 31 W.,
Sec. 6, Lot 6 | 41.20
Sec. 30, SE¼NW¼ | 40
Sec. 32, S½NW¼ | 80
T. 155 N., R 32 W.,
Sec. 1, Lots 1 thru 12, NW¼ | 612.64
Sec. 2, S½ | 320
Sec. 3, SE¼ | 160
Sec. 6, NW¼ | 160
Sec. 11, N½NW¼, SE¼NW¼, SW¼ | 280
Sec. 12, Lots 1 and 12 | 65.36
Sec. 20, N½ | 320
Sec. 21, NE¼ | 160
Sec. 22, NW¼NE¼, SE¼NE¼, NW¼ | 240
Sec. 23, SW¼NE¼ | 40
Sec. 26, SW¼NE¼, NW¼, NW¼SE¼ | 240
Sec. 27, NW¼SE¼ | 40
Sec. 28, NW¼, N½SW¼ | 240
T. 156 N., R 32 W.,
Sec. 2, Lot 1 | 26.01
Sec. 7, SW¼ | 160
Sec. 16, NW¼ | 160
Sec. 17, NE¼ | 160
Sec. 19, SW¼ | 160
Sec. 22, SE¼ | 160
Sec. 23, SW¼ | 160
Sec. 24, Lot 12, SW¼ | 193.59
Sec. 25, Lots 1, 6, 7 and 12, SW¼ | 294.04
Sec. 26, NW¼ | 160
Sec. 30, W½ | 320
Sec. 31, NW¼ | 160
Sec. 35, NW¼ | 160
T. 157 N., R 32 W.,
Sec. 1, NW¼SW¼ | 40
Sec. 13, Lot 4 | 40.03
Sec. 17, W½NW¼ | 80
Sec. 18, Lot 3, N½NE¼, SE¼NE¼ | 159.09
Sec. 19, Lots 3 and 4, E½SW¼ | 159.6
Sec. 22, N½NE¼, SW¼NE¼, NW¼SE¼ | 160
Sec. 24, E½NE¼, S½SE¼ | 160
Sec. 25, SW¼NE¼, SE¼SW¼, W½SE¼ | 160
Sec. 28, NW¼SW¼ | 40
Sec. 30, Lots 1 and 2, E½NW¼ | 159.7
T. 158 N., R 32 W.,
Sec. 1, Lot 7, SW¼SW¼ | 72.54
Sec. 2, NE¼SW¼, SE¼SE¼ | 80
Sec. 14, NE¼SE¼ | 40
Sec. 15, NE¼SE¼, SW¼SE¼ | 80
Sec. 16, SE¼NW¼, SW¼ | 200
Sec. 17, SW¼NW¼, N½SW¼ | 120
Sec. 20, E½SE¼ | 80
Sec. 21, SW¼NW¼, SW¼SW¼ | 80
Sec. 22, NW¼SW¼ | 40
Sec. 25, Lot 4, NE¼SW¼ | 74.93
Sec. 26, SE¼NE¼ | 40
Sec. 27, SW¼SE¼ | 40
Sec. 28, NW¼NE¼, N½NW¼ | 120
Sec. 31, E½SE¼, SW¼SE¼ | 120
Sec. 35, NE¼NE¼, SW¼NE¼ | 80
T. 159 N., R 32 W.,
Sec. 6, Lots 2 and 5, SW¼NE¼, SE¼NW¼ | 148.83
Sec. 8, NE¼SE¼ | 40
Sec. 9, NW¼SE¼ | 40
Sec. 13, NE¼NW¼ | 40
Sec. 15, SW¼NE¼ | 40
Sec. 16, SW¼NE¼, W½NW¼, SE¼NW¼, SE¼SE¼ | 200
Sec. 25, NE¼NE¼ | 40
Sec. 26, NW¼NW¼ | 40
Sec. 28, SE¼SW¼ | 40
T. 160 N., R 32 W.,
Sec. 23, NE¼ | 160
Sec. 24, W½ | 320
Sec. 32, SE¼ | 160
Sec. 36, NW¼ | 160
T. 155 N., R 33 W.,
Sec. 14, N½ | 320
Sec. 23, SE¼ | 160
Sec. 26, NE¼ | 160
Sec. 28, NE¼ | 160
Sec. 35, S½ | 320
Sec. 36, NE¼ | 160
T. 156 N., R 33 W.,
Sec. 16, SE¼ | 160
T. 157 N., R 33 W.,
Sec. 7, Lot 1, SE¼NE¼ | 79.12
Sec. 8, E½SW¼, W½SE¼ | 160
Sec. 13, NE¼SE¼ | 40
Sec. 16, NE¼SW¼ | 40
Sec. 17, SW¼SE¼ | 40
Sec. 19, N½SE¼ | 80
Sec. 20, SW¼NE¼, NW¼SW¼ | 80
Sec. 21, NE¼NE¼, NW¼NW¼, SE¼NW¼ | 120
Sec. 22, W½NW¼, W½SE¼ | 160
Sec. 23, S½NE¼ | 80
Sec. 24, S½NW¼, N½SW¼, NW¼SE¼ | 200
Sec. 35, NE¼SW¼ | 40
T. 158 N., R 33 W.,
Sec. 34, NE¼NE¼ | 40
T. 159 N., R 33 W.,
Sec. 5, Lots 2 and 3, S½NE¼ | 159.32
Sec. 7, E½NE¼, NE¼SW¼, N½SE¼ | 200
Sec. 8, NW¼NE¼, W½NW¼, NE¼SE¼ | 160
Sec. 19, N½SE¼, SW¼SE¼ | 120
T. 160 N., R 33 W.,
Sec. 8, NW¼SE¼ | 40
Sec. 23, S½NW¼ | 80
Sec. 25, SE¼NE¼, NE¼SE¼ | 80
Sec. 29, SE¼NE¼ | 40
Sec. 30, SE¼ | 160
Sec. 32, SE¼NE¼ | 40
T. 162 N., R 33 W.,
Sec. 14, NW¼SE¼ | 40
T. 156 N., R 34 W.,
Sec. 4, Lot 4, SW¼NW¼ | 63.69
Sec. 5, Lot 1, S½NE¼, SE¼ | 263.73
Sec. 6, Lot 1, SE¼NE¼ | 65.20
Sec. 7, Lots 3 and 4, E½SW¼ | 161.79
Sec. 9, W½NE¼, SE¼NE¼, NE¼NW¼ | 160
Sec. 18, Lots 1 and 2, E½NW¼ | 161.42
T. 157 N., R 34 W.,
Sec. 1, Lots 3 and 4, S½NW¼ | 157.92
Sec. 5, SW¼SW¼ | 40
Sec. 8, NE¼NW¼ | 40
Sec. 10, SW¼NE¼, NW¼SW¼ | 80
Sec. 12, NW¼ | 160
Sec. 13, SE¼NW¼ | 40
Sec. 18, Lots 3 and 4, SE¼SW¼, SW¼SE¼ | 154.92
Sec. 20, SE¼ | 160
Sec. 21, S½SE¼ | 80
Sec. 22, E½SE¼ | 80
Sec. 23, W½SW¼, SE¼SW¼, S½SE¼ | 200
Sec. 24, W½SW¼, SE¼SW¼, SW¼SE¼ | 160
Sec. 27, N½ | 320
Sec. 28, N½NE¼, W½SW¼, SE¼SW¼, SW¼SE¼ | 240
Sec. 32, NW¼NW¼ | 40
Sec. 33, NW¼NE¼ | 40
T. 158 N., R 34 W.,
Sec. 31, Lot 1 | 33.16
Sec. 32, N½NE¼ | 80
T. 159 N., R 34 W.,
Sec. 6, Lots 3, 5 and 6 | 120.06
Sec. 7, Lots 2 thru 4, SE¼NW¼, E½SW¼, NE¼SE¼ | 278.82
Sec. 8, S½SW¼, SE¼ | 240
Sec. 9, N½NE¼ | 80
Sec. 17, N½NE¼, N½NW¼ | 160
Sec. 18, Lots 1 thru 3, NW¼NE¼, E½NW¼, NE¼SW¼ | 279.10
T. 160 N., R 34 W.,
Sec. 1, S½NW¼ | 80
Sec. 2, Lots 1 and 2, S½NE¼ | 165.11
Sec. 7, W½NE¼, W½SE¼ | 160
Sec. 8, Lot 3, SW¼NE¼, NE¼SW¼ | 118.80
Sec. 9, SE¼ | 160
Sec. 15, SE¼NW¼, SW¼SW¼ | 80
Sec. 16, NW¼SW¼ | 40
Sec. 17, Lot 1, W½NW¼, SE¼NW¼ | 157.70
Sec. 19, Lots 1, 2 and 4, E½NW¼, N½SE¼, SE¼SE¼ | 295.46
Sec. 20, W½SW¼ | 80
Sec. 21, SE¼ | 160
Sec. 22, NE¼SW¼, NE¼SE¼ | 80
Sec. 23, NW¼NE¼ | 40
Sec. 26, SE¼NW¼ | 40
Sec. 28, NW¼NE¼ | 40
Sec. 32, SE¼NE¼ | 40
Sec. 34, SW¼NW¼ | 40
T. 161 N., R 34 W.,
Sec. 36, N½SW¼, SW¼SW¼, NW¼SE¼ | 160
T. 162 N., R 34 W.,
Sec. 16, NW¼ | 160
T. 155 N., R 35 W.,
Sec. 15, SE¼SE¼ | 40
Sec. 16, N½NE¼, E½NW¼ | 160
Sec. 22, NE¼ | 160
Sec. 29, NE¼ | 160
Sec. 30, Lot 4, SE¼SW¼ | 78.07
T. 156 N., R 35 W.,
Sec. 2, Lot 4, SW¼NW¼, N½SW¼, SW¼SW¼, NW¼SE¼ | 226.76
Sec. 3, Lots 1 and 2, SE¼NE¼, E½SE¼ | 172.68
Sec. 4, SW¼NE¼ | 40
Sec. 9, E½SW¼, SW¼SE¼ | 120
Sec. 10, SE¼ | 160
Sec. 12, E½SE¼ | 80
Sec. 14, W½NE¼ | 80
Sec. 15, N½ | 320
Sec. 16, SW¼ | 160
Sec. 19, NE¼ | 160
Sec. 20, W½NW¼, SE¼NW¼, N½SW¼, SW¼SW¼ | 240
Sec. 21, SW¼ | 160
Sec. 34, SW¼ | 160
T. 157 N., R 35 W.,
Sec. 4, SE¼NE¼ | 40
Sec. 6, Lot 7, SE¼SW¼ | 81.95
Sec. 7, Lot 1, NE¼NW¼ | 82
Sec. 8, E½SW¼, W½SE¼ | 160
Sec. 9, NW¼ | 160
Sec. 34, Lots 1 and 2, N½SW¼ | 166.05
Sec. 36, Lot 1, NW¼SW¼ | 80.96
T. 158 N., R 35 W.,
Sec. 6, Lot 5 | 42.81
Sec. 18, SW¼NE¼ | 40
Sec. 27, SE¼NE¼ | 40
Sec. 31, Lots 3 and 4 | 70.83
Sec. 36, SW¼NW¼ | 40
T. 159 N., R 35 W.,
Sec. 1, Lots 1 and 2, SW¼NE¼, E½SW¼, SW¼SW¼, NW¼SE¼ | 279.65
Sec. 2, NW¼SE¼ | 40
Sec. 3, Lot 3, SW¼NE¼, SE¼NW¼, NE¼SW¼ | 158.44
Sec. 4, Lot 1 | 38.01
Sec. 5, NW¼SE¼ | 40
Sec. 9, SE¼NE¼, N½SW¼ | 120
Sec. 12, NE¼NE¼ | 40
Sec. 17, SW¼SE¼ | 40
Sec. 18, SE¼SE¼ | 40
Sec. 19, SW¼NE¼, SE¼NW¼ | 80
Sec. 28, SE¼NW¼ | 40
Sec. 31, S½NE¼, N½SE¼ | 160
T. 160 N., R 35 W.,
Sec. 1, S½NW¼, NE¼SW¼, NW¼SE¼ | 160
Sec. 3, SW¼ | 160
Sec. 4, Lot 4, S½NW¼ | 112.61
Sec. 6, Lots 1, 2, 4 and 5, S½NE¼, SE¼NW¼, E½SW¼ | 307.27
Sec. 7, NE¼SW¼ | 40
Sec. 8, NW¼ | 160
Sec. 11, SW¼NW¼, SE¼ | 200
Sec. 12, E½, SW¼ | 480
Sec. 14, SE¼ | 160
Sec. 17, E½NE¼, SW¼NE¼, SE¼NW¼, N½SW¼, SE¼SW¼ | 280
Sec. 18, Lot 2, E½NE¼, SE¼NW¼, SE¼SE¼ | 183.84
Sec. 19, Lots 1 thru 4, NE¼, E½NW¼, E½SW¼, SW¼SE¼ | 459.68
Sec. 20, N½, S½SE¼ | 400
Sec. 21, S½NE¼, SE¼ | 240
Sec. 22, SE¼ | 160
Sec. 23, N½SE¼, SE¼SE¼ | 120
Sec. 24, N½NW¼, SW¼NW¼, W½SW¼, SE¼SW¼ | 240
Sec. 25, NW¼NE¼, N½NW¼, W½SE¼, SE¼SE¼ | 240
Sec. 26, NE¼NE¼ | 40
Sec. 27, W½NE¼ | 80
Sec. 28, NE¼, N½NW¼, SW¼SW¼ | 280
Sec. 29, N½NE¼, E½NW¼, S½ | 480
Sec. 30, Lots 1 thru 4, NE¼, E½NW¼, E½SW¼, W½SE¼ | 503.2
Sec. 34, NE¼NE¼ | 40
Sec. 35, SE¼NW¼, E½SW¼, SW¼SW¼, SE¼ | 320
T. 161 N., R 35 W.,
Sec. 36, E½SE¼ | 80
T. 156 N., R 36 W.,
Sec. 1, Lots 2 and 3 | 44.78
T. 158 N., R 36 W.,
Sec. 3, SW¼NW¼ | 40
Sec. 5, SE¼SE¼ | 40
Sec. 8, NE¼NE¼ | 40
Sec. 10, S½SW¼, SE¼ | 240
Sec. 11, NW¼NE¼ | 40
Sec. 12, SW¼SW¼ | 40
Sec. 15, N½NW¼ | 80
Sec. 16, NE¼ | 160
Sec. 19, SW¼ | 160
Sec. 20, SW¼SE¼ | 40
Sec. 22, NW¼SE¼ | 40
Sec. 29, NE¼ | 160
Sec. 32, NE¼, E½SW¼, W½SE¼ | 320
Sec. 36, Lot 4, SW¼SE¼ | 75.92
T. 159 N., R 36 W.,
Sec. 10, NE¼SW¼, NW¼SE¼ | 80
Sec. 11, SW¼NE¼, NW¼, E½SW¼, SE¼ | 440
Sec. 12, W½NE¼, NW¼, N½SW¼, SW¼SW¼ | 360
Sec. 13, SW¼NW¼, W½SW¼ | 120
Sec. 14, E½, N½SW¼ | 400
Sec. 23, N½NW¼ | 80
Sec. 36, S½NE¼, SE¼NW¼, NE¼SW¼, NW¼SE¼ | 200
T. 160 N., R 36 W.,
Sec. 1, S½ | 320
Sec. 2, Lot 2, S½NE¼ | 113.86
Sec. 3, Lot 4, SW¼NW¼ | 72.2
Sec. 9, W½SE¼ | 80
Sec. 11, SE¼ | 160
Sec. 12, NE¼, SW¼, SE¼SE¼ | 360
Sec. 14, SE¼ | 160
Sec. 16, NW¼ | 160
Sec. 20, SE¼ | 160
Sec. 21, NW¼ | 160
Sec. 23, W½SE¼ | 80
Sec. 24, SE¼ | 160
Sec. 25, NE¼, NE¼SW¼, N½SE¼, SE¼SE¼ | 320
Sec. 26, SE¼NE¼, SE¼NW¼, NE¼SE¼ | 120
Sec. 29, NE¼ | 160
Sec. 33, W½, SE¼ | 480
Sec. 35, NW¼ | 160
T. 155 N., R 37 W.,
Sec. 16, S½NE¼ | 80
T. 157 N., R 37 W.,
Sec. 20, SW¼ | 160
T. 158 N., R 37 W.,
Sec. 2, SE¼SE¼ | 40
Sec. 4, Lot 1 | 50.94
Sec. 16, W½NE¼, E½NW¼ | 160
Sec. 20, SE¼ | 160
Sec. 21, W½NE¼, E½NW¼, SW¼ | 320
Sec. 27, NW¼ | 160
Sec. 28, E½SE¼ | 80
Sec. 29, NW¼ | 160
Sec. 30, N½SE¼, SE¼SE¼ | 120
Sec. 31, NE¼SE¼ | 40
Sec. 32, W½SW¼ | 80
Sec. 33, SE¼ | 160
T. 159 N., R 37 W.,
Sec. 12, Lot 2, SW¼NE¼ | 79.99
T. 160 N., R 37 W.,
Sec. 3, SE¼NW¼ | 40
Sec. 11, Lot 4 | 2.95
Sec. 13, SW¼ | 160
Sec. 15, NW¼ | 160
Sec. 16, E½NW¼, E½SW¼, SE¼ | 320
Sec. 18, SE¼NW¼, E½SE¼ | 120
Sec. 19, NE¼SW¼ | 40
Sec. 20, NE¼NE¼, W½SE¼ | 120
Sec. 21, N½NW¼, N½SW¼, SE¼SW¼, W½SE¼ | 280
Sec. 22, W½ | 320
Sec. 24, W½NW¼ | 80
Sec. 26, W½, SE¼ | 480
Sec. 27, NE¼ | 160
Sec. 29, N½NE¼, SW¼NE¼ | 120
Sec. 34, SE¼NW¼, NE¼SW¼ | 80
Sec. 35, NE¼ | 160
T. 157 N., R 38 W.,
Sec. 14, NW¼ | 160
Sec. 16, SE¼NE¼, NE¼SE¼ | 80
T. 158 N., R 38 W.,
Sec. 11, NE¼ | 160
Sec. 19, Lot 3, NE¼SW¼ | 77.78
Sec. 21, SE¼ | 160
Sec. 23, N½SW¼, SW¼SW¼ | 120
Sec. 31, E½SW¼ | 80
T. 159 N., R 38 W.,
Sec. 7, NE¼NW¼, SE¼SW¼ | 80
Sec. 9, SE¼NE¼, NW¼SE¼ | 80
T. 159 N., R 39 W.,
Sec. 10, W½NE¼, N½NW¼ | 160
Sec. 31, E½SE¼ | 80
T. 159 N., R 40 W.,
Sec. 22, Lot 1 | 5.38
Sec. 27, S½SE¼ | 80
Sec. 36, NW¼NW¼ | 40
T. 155 N., R 41 W.,
Sec. 16, NE¼SW¼, NW¼SE¼ | 80

The area described aggragates 59,625.01 acres, more or less.

Authority: 25 U.S.C. 461 et seq.; Notice of Order of Restoration, Red Lake Reservation, Minnesota, 10 FR 2448 (Mar. 2, 1945).

Janice M. Schneider,
Assistant Secretary, Land and Minerals Management.
Lawrence S. Roberts,
Principal Deputy Assistant Secretary, Indian Affairs.

[FR Doc. 2017-00556 Filed 1-12-17; 8:45 am]

BILLING CODE 4310-GJ-P